FEDERAL MARITIME COMMISSION

Sunshine Act Meeting

AGENCY HOLDING THE MEETING: Federal Maritime Commission.

TIME AND DATE: June 20, 2013; 10:00 a.m.

PLACE: 800 N. Capitol Street NW., First Floor Hearing Room, Washington, DC.

STATUS: The first portion of the meeting will be in Open Session and the remainder of the meeting will be in Closed Session.

MATTERS TO BE CONSIDERED:

Open Session

1. Staff Briefing on the Initial Draft FMC 2014-2018 Information Resources Management (IRM) Strategic Plan.

2. Docket No. 11-22: Non-Vessel-Operating Common Carrier Negotiated Rate Arrangements; Tariff Publication Exemption.

Closed Session

1. Docket No. 12-01: OC International Freight Inc., OMJ International Freight, Inc., and Omar Collado.

2. Section 15 Order Regarding Competition, Rates and Service in the U.S.-Australia/New Zealand Northbound and Southbound Trade.

3. Staff Briefing on Semi-Annual Meeting with Transpacific Stabilization Agreement Representatives.

CONTACT PERSON FOR MORE INFORMATION: Karen V. Gregory, Secretary, (202) 523 5725.

Rachel E. Dickon,
Assistant Secretary.

[FR Doc. 2013-14336 Filed 6-12-13; 4:15 pm]

BILLING CODE 6730-01-P